DEPARTMENT OF HOMELAND SECURITY

Transportation Security Administration

[Docket No. TSA-2006-25335]

RIN 1652-AZ08

Privacy Act of 1974: System of Records; National Finance Center (NFC) Payroll Personnel System

AGENCY: Transportation Security Administration, DHS.

ACTION: Notice to establish a new system of records; request for comments.

SUMMARY: The Transportation Security Administration (TSA) is establishing a new system of records under the Privacy Act of 1974. The new system is known as the National Finance Center Payroll Personnel System (DHS/TSA 022) and is to be used to reflect the agency's migration from its legacy payroll system (the Department of Transportation's Integrated Personnel and Payroll System (IPPS), Consolidated Uniform Payroll System (CUPS), and Consolidated Personnel Management Information System (CPMIS)) to the Department of Agriculture's National Finance Center (NFC).

DATES: Submit comments by August 16, 2006.

ADDRESSES: You may submit comments, identified by the TSA docket number to this rulemaking, using any one of the following methods:

Comments Filed Electronically: You may submit comments through the docket Web site at http://dms.dot.gov. You also may submit comments through the Federal eRulemaking portal at http://www.regulations.gov.

Comments Submitted by Mail, Fax, or In Person: Address or deliver your written, signed comments to the Docket Management System, U.S. Department of Transportation, Room Plaza 401, 400 Seventh Street, SW., Washington, DC 20590-0001; Fax: 202-493-2251.

See SUPPLEMENTARY INFORMATION for format and other information about comment submissions.

FOR FURTHER INFORMATION CONTACT: Lisa S. Dean, Privacy Officer, Office of Transportation Security Policy, TSA-9, 601 South 12th Street, Arlington, VA 22202-4220; telephone (571) 227-3947; facsimile (571) 227-2555.

SUPPLEMENTARY INFORMATION:

Comments Invited

TSA invites interested persons to participate by submitting written comments, data, or views. See ADDRESSES above for information on where to submit comments.

With each comment, please include your name and address, identify the docket number at the beginning of your comments, and give the reason for each comment. The most helpful comments reference a specific portion of the document, explain the reason for any recommended change, and include supporting data. You may submit comments and material electronically, in person, by mail, or fax as provided under ADDRESSES, but please submit your comments and material by only one means. If you submit comments by mail or delivery, submit them in two copies, in an unbound format, no larger than 8.5 by 11 inches, suitable for copying and electronic filing.

If you want TSA to acknowledge receipt of comments submitted by mail, include with your comments a self-addressed, stamped postcard on which the docket number appears. We will stamp the date on the postcard and mail it to you.

TSA will file in the public docket all comments received by TSA, except for comments containing confidential information and sensitive security information (SSI) ¹, TSA will consider all comments received on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Do not submit comments that include trade secrets, confidential commercial or financial information, or SSI to the public regulatory docket. Please submit such comments separately from other comments on the rulemaking. Comments containing this type of information should be appropriately marked as containing such information and submitted by mail the address listed in FOR FURTHER INFORMATION CONTACT section.

Upon receipt of such comments, TSA will not place the comments in the public docket and will handle them in accordance with applicable safeguards and restrictions on access. TSA will hold them in a separate file to which the public does not have access, and place a note in the public docket that TSA has received such materials from the commenter. If TSA receives a request to examine or copy this information, TSA will treat it as any other request under the Freedom of Information Act (FOIA) (5 U.S.C. 552) and the Department of Homeland Security's (DHS') FOIA regulation found in 6 CFR part 5.

Reviewing Comments in the Docket

Please be aware that anyone is able to search the electronic form of all comments received into any of our dockets by the name of the individual submitting the comment (or signing the comment, if submitted on behalf of an association, business, labor union, etc.). You may review the applicable Privacy Act Statement published in the Federal Register on April 11, 2000 (65 FR 19477), or you may visit http://dms.dot.gov.

You may review the comments in the public docket by visiting the Dockets Office between 9 a.m. and 5 p.m., Monday through Friday, except Federal holidays. The Dockets Office is located on the plaza level of the Nassif Building at the Department of Transportation address, previously provided under ADDRESSES. Also, you may review public dockets on the Internet at http://dms.dot.gov.

Availability of Document

You can get an electronic copy using the Internet by—

(1) Searching the Department of Transportation's electronic Docket Management System (DMS) Web page (http://dms.dot.gov/search);

(2) Accessing the Government Printing Office's Web page at http://www.access.gpo.gov/su_docs/aces/aces140.html; or

(3) Visiting TSA's Law and Policy web page at http://www.tsa.gov and accessing the link for “Law and Policy” at the top of the page.

In addition, copies are available by writing or calling the individual in the FOR FURTHER INFORMATION CONTACT section. Make sure to identify the docket number of this document.

Background

The Transportation Security Administration (TSA) is establishing a new system of records to reflect the agency's migration from its legacy payroll and personnel system, the Department of Transportation's Integrated Personnel and Payroll System (IPPS), Consolidated Uniform Payroll System (CUPS), and Consolidated Personnel Management Information System (CPMIS), to become a payroll customer of the USDA's National Finance Center (NFC). This migration is part of an effort on the part of the Department of Homeland Security (DHS) to have all of its components under one payroll system. TSA's move to the NFC also supports the government-wide initiative led by the Office of Personnel Management (OPM) to consolidate executive branch payroll providers. The complete notice of the new system of records follows.

SYSTEM OF RECORDS

DHS/TSA 022

SYSTEM NAME:

National Finance Center Payroll Personnel System (NFC).

SECURITY CLASSIFICATION:

Sensitive, Unclassified.

SYSTEM LOCATION:

Paper records are maintained by the Transportation Security Administration, 601 South 12th Street, Arlington, VA 22202; and at other secure TSA facilities in Reston, Virginia, and Mays Landing, New Jersey. Computerized data is located at the U.S. Department of Agriculture (USDA), National Finance Center, New Orleans, LA 70129.

CATEGORIES OF INDIVIDUALS COVERED BY THE SYSTEM:

Current and former employees of the Transportation Security Administration. Only those individuals employed by TSA at the time of the migration will have their records transferred to the NFC.

CATEGORIES OF RECORDS IN THE SYSTEM:

All official personnel actions, basic benefits, pay, cash awards, and leave records of TSA employees. This includes, but is not limited to, employee information; such as: Name, date of birth, social security number (SSN), home and mailing addresses, grade, employing organization, salary, pay plan, number of hours worked, overtime, compensatory time, leave accrual rate, leave usage and balances, Civil Service Retirement and Federal Retirement System contributions, FICA withholdings, Federal, State, and city tax withholdings, Federal Employee Health Benefits withholdings, garnishments, savings bonds allotments, union dues withholdings, deductions for Internal Revenue Service levies, court ordered child support levies, Federal salary offset deductions, and information on the Leave Transfer Program and the Leave Bank Program.

AUTHORITY FOR MAINTENANCE OF THE SYSTEM:

5 U.S.C. 301, 2302(b)(10), 7311, 7313; E.O. 10450 (18 FR 2489, Apr. 29, 1953), 3 CFR, 1949-1953 Comp., p. 936; 5 CFR 731.103.

PURPOSE(S):

Records are maintained to control and facilitate payment of salaries and benefits to TSA civilian employees.

ROUTINE USES OF RECORDS MAINTAINED IN THE SYSTEM, INCLUDING CATEGORIES OF USERS AND THE PURPOSES OF SUCH USES:

(1) To the Merit Systems Protection Board, the Office of Special Counsel, the Equal Employment Opportunity Commission, the Social Security Administration, the Office of Personnel Management, the Department of Labor, the Department of Treasury, the Internal Revenue Service, or the Federal Labor Relations Authority, in connection with functions vested in those agencies.

(2) To the parties or complainants, their representatives, and impartial referees, examiners, administrative judges, or other decisionmakers in proceedings under grievance procedures, Equal Employment Opportunity procedures, Merit Systems Protection Board, or similar procedures.

(3) To contractors, grantees, experts, consultants, or volunteers, when necessary, to perform a function or service related to this system of records for which they have been engaged. Such recipients are required to comply with the Privacy Act, 5 U.S.C. 552a, as amended.

(4) To the Department of Justice (DOJ) or other Federal agency for purposes of conducting litigation or proceedings before any court, adjudicative, or administrative body when—

(a) DHS; or

(b) Any employee of DHS in his/her official capacity; or

(c) Any employee of DHS in his/her individual capacity, where DOJ or DHS has agreed to represent the employee; or

(d) The United States or any agency thereof, is a party to the litigation or proceeding, or has an interest in such litigation or proceeding.

(5) To the appropriate Federal, State, local, tribal, territorial, foreign, or international agency responsible for investigating, prosecuting, enforcing, or implementing a statute, rule, regulation, or order; where TSA becomes aware of an indication of a violation or potential violation of civil or criminal law or regulation.

(6) To a Federal, State, local, tribal, territorial, foreign, or international agency, where such agency has requested information relevant or necessary for the hiring or retention of an individual, or the issuance of a security clearance, license, contract, grant, or other benefit.

(7) To a Federal, State, local, tribal, territorial, foreign, or international agency, if necessary, to obtain information relevant to a TSA decision concerning the hiring or retention of an employee, the issuance of a security clearance, license, contract, grant, or other benefit.

(8) To the Office of Management and Budget in connection with private relief legislation.

(9) To a Federal, State, or local agency so that the agency may adjudicate an individual's eligibility for a benefit.

(10) To the Office of Federal Employee's Group Life Insurance to support a claim for life insurance benefits.

(11) To Federal, State, and local taxing authorities as required by law.

(12) To the Civil Service Retirement System to report earnings for members of that system.

(13) To courts to report earnings when garnishments are served, or in bankruptcy or wage earner proceedings.

(14) To financial institutions and employee organizations to transmit payroll deduction information.

(15) To officials of labor organizations as to the identity of employees contributing union dues each pay period, and the amount of dues withheld from each employee.

(16) To multi-employer health and welfare and pension funds, as reasonably necessary and appropriate, for proper administration of the plan of benefits.

(17) To the Federal, State, or local agencies for use in locating individuals and identifying their income sources to establish paternity, establish and modify orders of support, and for enforcement action.

(18) To the Office of Child Support Enforcement for the release to the Social Security Administration of verifying social security numbers, in connection with the operation of the Federal Parent Locator System.

(19) To Federal agencies as a data source for management information through he production of summary descriptive statistics and analytical studies, in support of the functions for which the records are maintained for related studies.

(20) To the Combined Federal Campaign in connection with payroll deductions for charitable purposes.

(21) To requesting agencies or non-Federal entities under approved computer matching efforts to improve program integrity, and to collect debts and other money owed under those programs (e.g., matching for delinquent loans or other indebtedness to the Government). Computer matching efforts are limited only to those data elements considered relevant to making a determination of eligibility under particular benefit programs administered by those agencies or entities, or by the Department of Treasury, or any constituent unit of the Department.

(22) To a congressional office from the record of an individual, in response to an inquiry from that congressional office made at the request of the individual.

(23) To the National Archives and Records Administration, or other appropriate Federal agency, in records management inspections being conducted under the authority of 44 U.S.C. 2904 and 2906.

(24) To the Department of Justice, United States Attorney's Office, or other Federal agencies, for further collection action on any delinquent debt when circumstances warrant.

(25) To a debt collection agency for the purpose of debt collection.

DISCLOSURE TO CONSUMER REPORTING AGENCIES:

Privacy Act information may be disclosed pursuant to 5 U.S.C. 552a (b)(12) and section 3 of the Debt Collection Act of 1982, Pub. L. 97-365. Debt information concerning a Government claim against an individual is also furnished to consumer agencies in order to encourage repayment of an overdue debt. Disclosures may be made to a consumer reporting agency as defined in the Fair Credit Reporting Act, 15 U.S.C. 1681a(f); or the Federal Claims Collection Act of 1966, 31 U.S.C. 701(a)(3).

POLICIES AND PRACTICES FOR STORING, RETRIEVING, ACCESSING, RETAINING AND DISPOSING OF RECORDS IN THE SYSTEM: STORAGE:

Records in this system are stored on paper, in official personnel folders, located at TSA and its approved storage sites. Computerized records are stored on an IBM z900 mainframe, with an IBM Shark RAID DASD system, for direct access storage; and in STK 9840 tape silos for long-term data storage, which resides at the NFC.

RETRIEVABILITY:

Records are retrievable by the individual's name or SSN.

SAFEGUARDS:

The National Finance Center is located in a secured Federal complex. Within this secured building, the Computer Operations Center is located in a controlled access room. Specific employees have been identified as system and database administrators having specific responsibilities allowing access to TSA personnel and payroll data. Security is embedded within the software in both the operating system and at the application level. Individuals not granted access rights cannot view or change data. The database is monitored by software applications that provide audits of log-ins, both successful and failed.

Output documents from the system are maintained as hard copy documents by TSA and are safeguarded in secured cabinets within secured rooms.

RETENTION AND DISPOSAL:

Some records are retained and disposed of in accordance with the National Archives and Records Administration's General Records Schedule 1 (Civilian Personnel Records). Other records are retained and disposed of in accordance with General Records Schedule 2 (Payrolling and Pay Administration Records).

SYSTEM MANAGER(S) AND ADDRESS:

The TSA and the USDA National Finance Center share responsibility for system management. The first point of contact is the Director, Human Resources IT and Decision Support, TSA-21, Transportation Security Administration (TSA), 601 South 12th Street, Arlington, VA 22202.

NOTIFICATION PROCEDURE:

To determine whether this system contains records relating to you, write to the System Manager identified above.

RECORD ACCESS PROCEDURES:

Same as “Notification Procedures” above. Provide your full name and a description of information that you seek, including the time frame during which you may have generated the records. Individuals requesting access must comply with the Department of Homeland Security Privacy Act regulations on verification of identity (6 CFR 5.21(d)).

CONTESTING RECORD PROCEDURES:

Same as “Notification Procedure” and “Record Access Procedure,” above.

RECORD SOURCE CATEGORIES:

Information contained in the system is obtained from the USDA National Finance Center Payroll/Personnel System, the employee's supervisors, and the employee.

EXEMPTIONS CLAIMED FOR THE SYSTEM:

None.

Issued in Arlington, Virginia.
Peter Pietra,
Director of Privacy Policy and Compliance.

[FR Doc. E6-11235 Filed 7-14-06; 8:45 am]

BILLING CODE 9110-05-P